DEPARTMENT OF LABOR

Agency Information Collection Activities; Submission for OMB Review; ATUS Leave and Job Flexibilities Module

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before November 13, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Leave and Job Flexibilities Module includes questions about workers' access to and use of paid and unpaid leave, job flexibility, and their work schedules. Information collected in the supplement will be published as a public use data set to facilitate research on numerous topics, such as: the characteristics of people with paid and unpaid leave; occupations with the greatest and least access to paid leave; reasons workers are able to take leave from their jobs; how many workers have access to job flexibilities such as the ability to work from home or adjust their start and stop times; and the relationship between workers' time use and their access to job flexibilities. Sponsored by the Department of Labor's Women's Bureau, the supplement is asked of eligible respondents immediately upon their completion of the American Time Use Survey (ATUS). The Leave and Job Flexibilities Module supports the mission of the Bureau of Labor Statistics by providing relevant information on economic and social issues and providing a richer description of work. The module surveys eligible wage and salary workers aged 15 and up from a nationally representative sample of households each month. For additional substantive information about this ICR, see the related notice published in the Federal Register on June 13, 2023 (88 FRN 38543).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-BLS.

Title of Collection: ATUS Leave and Job Flexibilities Module.

OMB Control Number:1220-0191.

Affected Public: Individuals or Households.

Total Estimated Number of Respondents: 4,542.

Total Estimated Number of Responses: 4,542.

Total Estimated Annual Time Burden: 379 hours.

Total Estimated Annual Other Costs Burden: $0.

(Authority: 44 U.S.C. 3507(a)(1)(D))

Nicole Bouchet,
Acting Departmental Clearance Officer.

[FR Doc. 2023-22497 Filed 10-12-23; 8:45 am]

BILLING CODE 4510-24-P